DEPARTMENT OF HOMELAND SECURITY

Federal Emergency Management Agency

[Docket ID FEMA-2016-0002; Internal Agency Docket No. FEMA-B-1642]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 8, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1642, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: August 2, 2016.
Roy E. Wright,
Deputy Associate Administrator for Insurance and Mitigation, Department of Homeland Security, Federal Emergency Management Agency.

I. Watershed-based studies:

Community | Community map repository address
Lower Sabine Watershed
Maps Available for Inspection Online at: http://www.fema.gov/preliminaryfloodhazarddata
Calcasieu Parish, Louisiana and Incorporated Areas
Unincorporated Areas of Calcasieu Parish | Planning and Development Department, 901 Lakeshore Drive, Lake Charles, LA 70601.

II. Non-watershed-based studies:

Community | Community map repository address
Camden County, Georgia and Incorporated Areas
Maps Available for Inspection Online at: http://www.fema.gov/preliminaryfloodhazarddata
Project: 12-04-0913S Preliminary Date: December 15, 2015
City of Kingsland | City Hall, 107 South Lee Street, Kingsland, GA 31548.
City of St. Marys | Community Development Department, 418 Osborne Street, St. Marys, GA 31558.
City of Woodbine | City Hall, 310 Bedell Avenue, Woodbine, GA 31569.
Unincorporated Areas of Camden County | Camden County Planning and Development Department, 107 Gross Road, Suite 3, Kingsland, GA 31548.
Effingham County, Georgia and Incorporated Areas
Maps Available for Inspection Online at: http://www.fema.gov/preliminaryfloodhazarddata
Project: 12-04-0917S Preliminary Date: November 16, 2015
City of Rincon | City Hall, Building and Zoning Department, 302 South Columbia Avenue, Rincon, GA 31326.
Unincorporated Areas of Effingham County | Effingham County Courthouse, GIS Department, 901 North Pine Street, Suite 206, Springfield, GA 31329.
Glynn County, Georgia and Incorporated Areas
Maps Available for Inspection Online at: http://www.fema.gov/preliminaryfloodhazarddata
Project: 12-04-0916S Preliminary Date: December 11, 2015
City of Brunswick | City Hall, 601 Gloucester Street, Brunswick, GA 31520.
Jekyll Island State Park Authority | Fire and EMS Department, 200 Stable Road, Jekyll Island, GA 31527.
Unincorporated Areas of Glynn County | Glynn County Offices, Harold Pate Building, 1725 Reynolds Street, 2nd Floor, Brunswick, GA 31520.
Long County, Georgia and Incorporated Areas
Maps Available for Inspection Online at: http://www.fema.gov/preliminaryfloodhazarddata
Project: 12-04-0919S Preliminary Date: November 16, 2015
Unincorporated Areas of Long County | Long County Code Enforcement Office, 285 South McDonald Street, Ludowici, GA 31316.
Washington County, Maine (All Jurisdictions)
Maps Available for Inspection Online at: http://www.fema.gov/preliminaryfloodhazarddata
Project: 13-01-1510S Preliminary Date: March 4, 2016
Baring Plantation | Land Use Planning Commission, 106 Hogan Road, Suite 8, Bangor, ME 04401.
City of Calais | City Building, 11 Church Street, Calais, ME 04619.
City of Eastport | City Hall, 78 High Street, Eastport, ME 04631.
Grand Lake Stream Plantation | Land Use Planning Commission, 106 Hogan Road, Suite 8, Bangor, ME 04401.
Passamaquoddy Tribe At Pleasant Point | Passamaquoddy Tribal Office, 136 County Road, Perry, ME 04667.
Town of Addison | Town Hall, 334 Water Street, Addison, ME 04606.
Town of Alexander | Town Hall, 50 Cooper Road, Alexander, ME 04694.
Town of Baileyville | Town Office, 63 Broadway Street, Baileyville, ME 04694.
Town of Beals | Town Office, 11 Big Pond Road, Beals, ME 04611.
Town of Charlotte | Town Office, 1098 Ayers Junction Road, Charlotte, ME 04666.
Town of Cherryfield | Town Office, 12 Municipal Way, Cherryfield, ME 04622.
Town of Columbia | Town Hall, 106 Epping Road, Columbia, ME 04623.
Town of Columbia Falls | Town Office, 8 Point Street, Columbia Falls, ME 04623.
Town of Crawford | First Selectman's Office, 359 Crawford Arm Road, Crawford, ME 04694.
Town of Cutler | Town Office, 2655 Cutler Road, Cutler, ME 04626.
Town of Danforth | Town Office, 18 Central Street, Danforth, ME 04424.
Town of Dennysville | Town Office, 2 Main Street, Dennysville, ME 04628.
Town of East Machias | Town Office, 32 Cutler Road, East Machias, ME 04630.
Town of Harrington | Town Office, 114 East Main Street, Harrington, ME 04643.
Town of Jonesboro | Town Office, 23 Station Road, Jonesboro, ME 04648.
Town of Jonesport | Town Office, 70 Snare Creek Lane, Jonesport, ME 04649.
Town of Lubec | Town Office, 40 School Street, Lubec, ME 04652.
Town of Machias | Town Office, 7 Court Street, Suite 1, Machias, ME 04654.
Town of Machiasport | Town Office, 8 Unity Square, Machiasport, ME 04655.
Town of Marshfield | Town Office, 187 Northfield Road, Marshfield, ME 04654.
Town of Milbridge | Town Office, 22 School Street, Milbridge, ME 04658.
Town of Northfield | Town Hall, 1940 Northfield Road, Northfield, ME 04654.
Town of Pembroke | Town Office, 48 Old County Road, Pembroke, ME 04666.
Town of Perry | Town Office, 898 U.S. Route 1, Perry, ME 04667.
Town of Princeton | Town Office, 15 Depot Street, Princeton, ME 04668.
Town of Robbinston | Town Office, 904 U.S. Route 1, Robbinston, ME 04671.
Town of Roque Bluffs | Town Hall, 3 Roque Bluffs Road, Roque Bluffs, ME 04654.
Town of Steuben | Town Office, 294 U.S. Route 1, Steuben, ME 04680.
Town of Talmadge | Chairperson's Office, 47 Talmadge Road, Talmadge, ME 04492.
Town of Topsfield | Town Office, 48 North Road, Topsfield, ME 04490.
Town of Vanceboro | Town Office, 101 High Street, Vanceboro, ME 04491.
Town of Wesley | Town Office, 2 Whining Pines Drive, Wesley, ME 04686.
Town of Whiting | Town Office, 169 U.S. Route 1, Whiting, ME 04691.
Town of Whitneyville | Town Office, 42 South Main Street, Whitneyville, ME 04654.
Township of Brookton | Land Use Planning Commission, 106 Hogan Road, Suite 8, Bangor, ME 04401.
Township of Edmunds | Land Use Planning Commission, 106 Hogan Road, Suite 8, Bangor, ME 04401.
Township of Lambert Lake | Land Use Planning Commission, 106 Hogan Road, Suite 8, Bangor, ME 04401.
Township of Trescott | Land Use Planning Commission, 106 Hogan Road, Suite 8, Bangor, ME 04401.
Dunn County, North Dakota Unincorporated Areas
Maps Available for Inspection Online at: http://www.fema.gov/preliminaryfloodhazarddata
Project: 16-08-0347S Preliminary Date: March 10, 2016
Unincorporated Areas of Dunn County | Dunn County Courthouse, 205 Owens Street, Manning, ND 58642.

[FR Doc. 2016-18977 Filed 8-9-16; 8:45 am]

BILLING CODE 9110-12-P